DEPARTMENT OF COMMERCE

National Oceanic and Atmospheric Administration

RIN 0648-XA35

Endangered and Threatened Species; Take of Anadromous Fish

AGENCY: National Marine Fisheries Service (NMFS), National Oceanic and Atmospheric Administration (NOAA), Commerce.

ACTION: Applications for five scientific research permits.

SUMMARY: Notice is hereby given that NMFS has received nine scientific research permit application requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific standard time on June 21, 2007.

ADDRESSES: Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): endangered upper Columbia River (UCR), threatened Snake River (SR) spring/summer-run (spr/sum), threatened Puget Sound (PS).

Steelhead (O. mykiss): threatened middle Columbia River (MCR), threatened Snake River (SR), threatened UCR, threatened PS.

Sockeye salmon (O. nerka): endangered SR.

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1341 - Renewal

The Shoshone-Bannock Tribes (Tribes) are seeking to renew and modify their permit to take SR sockeye salmon and SR spr/sum Chinook salmon while conducting research designed to estimate overwinter survival and downstream migration survival and timing with the goal of evaluating various release strategies and calculating smolt-to-adult return rates. SR steelhead may also be taken. This research would provide information on the relative success of the Pettit and Alturas Lakes sockeye salmon reintroduction programs and thereby benefit the listed fish by improving those programs. Juvenile SR sockeye salmon, spr/sum Chinook salmon, and steelhead would be collected at Pettit and Alturas Lakes, ID, using rotary screw traps and weirs. The fish would be sampled for biological information and released or tagged with passive integrated transponders and released. In addition, to determine trap efficiencies, a portion of the captured juvenile SR sockeye salmon would be marked with a small cut on their caudal fins, released upstream of the traps, captured at the traps a second time, and released. The Tribes do not intend to kill any of the fish being captured, but a small percentage may die as an unintended result of the research activities.

Permit 1345 - Renewal

The WDFW is asking to renew its permit to take adult and juvenile MCR steelhead, UCR steelhead, UCR spring Chinook salmon, SR steelhead, SR spr/sum Chinook salmon, PS Chinook salmon, and PS steelhead during the course of Washington State's annual warmwater fish stock assessment surveys. They are also asking to add a study in the Cedar River that would increase the number of PS Chinook salmon they take. The purpose of the warmwater surveys is to gather data on the State's fish species and thereby allow the WDFW to manage them in the best way possible. The research would benefit listed fish by giving managers more information on their abundance, distribution, and health. The surveys would be conducted using boat electrofishing equipment in the backwater sloughs, oxbow lakes, and ponds associated with major river systems throughout Washington State. The purpose of the Cedar River study is to monitor predation by trout and other species on listed Chinook in the Cedar River. The research would benefit listed fish by helping managers set fishing regulations in a manner that would reduce predators and therefore predation on the local PS Chinook populations. This research, too, would employ boat electrofishing.

Any juvenile listed salmonids captured during the research would be sampled for biological information and immediately released. If adult listed salmonids are seen, the electrofishing equipment would be turned off and the fish allowed to escape. The WDFW does not intend to kill any of the fish being captured, but a small percentage may die as an unintended result of the research activities.

Permit 1365 - Renewal

The Confederated Tribes of the Umatilla Indian Reservation (CTUIR) are seeking to modify and renew their permit to annually take MCR steelhead while conducting research designed to (1) monitor and evaluate the species' status and detect changes in salmonid abundance, productivity, spatial structure, and diversity; (2) determine if recovery strategies are helping improve natural production and viability in the Walla Walla subbasin, Washington; and (3) provide technical support for salmonid planning and modeling. The research would benefit MCR steelhead by helping continuously update and adapt subbasinwide recovery strategies for the listed fish. The researchers plan to capture the adult MCR steelhead using a variety of techniques: barbless hook-and-line angling, trapping, seining, and dip netting. Some of the fish would simply be measured and released, but some would also be fitted with radio tags before being released. These fish would then be tracked with both permanent and mobile tracking units to determine where in the subbasin they go. The CTUIR does not intend to kill any of the fish being captured, but a small percentage may die as an unintended result of the research activities.

Permit 1423 - Renewal

The USFWS is seeking to renew and modify its permit to annually take UCR steelhead and UCR Chinook while conducting research designed to determine if there are any interactions between wild and hatchery fish in terms of disease transmission and to gather baseline information on pathogen presence in the local fish populations. The research would take place in the Methow and Entiat River subbasins, Washington. The research would benefit listed fish by increasing our knowledge of disease presence and transmission in the Upper Columbia River and thereby help managers reduce the risks associated with those diseases. The fish would be captured using a variety of methods: nets, traps, electrofishing, and hook-and-line angling. The captured fish would be killed and sampled for pathogens.

Permit 1601

The U.S. Fish and Wildlife Service (USFWS) is requesting a 5-year research permit to take juvenile PS Chinook salmon and PS steelhead. The purpose of this research is to document the overall effectiveness of habitat restoration projects in Thornton, Piper's, and Venema Creeks, Seattle, WA. The goal is to help resource managers determine which types of restoration projects are most affective at mitigating the effects of urbanization. The information would be used to prioritize restoration projects. The USFWS proposes to capture fish in selected habitats using the three-pass electrofishing method. Block nets would be placed at the upper and lower end of a habitat site and three sequential passes wold be conducted using a backpack electrofishing unit. Listed fish would be captured, enumerated, placed in aerated containers, and held until the survey is complete. The USFWS does not intend to kill any of the fish being captured, but a small number may die as an unintended result of the activities.

Permit 1605

Windward Environmental seeking a 5-year research permit to take juvenile PS Chinook salmon and steelhead. The purpose of the research is to characterize chemical concentrations in fish and crab tissues following activities designed to remediate contaminated sediments in the Lower Duwamish Waterway and East Waterway Operable Unit of the Harbor Island Superfund Sites. The long-term goal is to help determine if the remediation activities have successfully reduced the concentrations of chemical contaminants in animal tissues. An additional goal is to characterize the Lower Duwamish Waterway environment and determine if contaminated sediments continue to pose risks to the organisms living in it and humans using it. The applicant proposes to capture fish and crabs using trawl nets and traps. Listed fish would be captured, identified, enumerated, and released. The applicant does not intend to kill any listed species, but a small number may die as an unintended result of the activities.

Permit 1609

R2 Resource Consultants, Inc. is requesting a 2-year research permit to take juvenile PS Chinook salmon and steelhead. The purpose of this study is to determine the relative abundance of juvenile salmonids and map their distribution in the Sultan River, Puget Sound, Washington. Information gathered by this study would be used to help develop the Henry M. Jackson Hydroelectric Project management plan. The study would thus help resource managers design water management strategies and habitat protection/restoration projects to benefit salmonids. The applicant proposes to conduct snorkeling and electrofishing surveys for juvenile salmonids. Supplemental sampling may also be conducted using minnow traps. The fish would be captured, anesthetized, measured, checked for hatchery marks, allowed to recover, and released. The applicant does not intend to kill any listed species, but a small number may die as an unintended result of the activities.

Permit 1611

The Confederated Tribes of Warm Springs Reservation, Oregon (CTWSRO) are seeking a 5-year permit to annually capture MCR steelhead during the course of research directed at non-listed fall Chinook salmon in the lower Deschutes River, Oregon. The information gained from this action would be used to determine the status of the fall Chinook stocks in the Columbia River basin and that information, in turn, would be used to set appropriate harvest levels and inform other management actions relating to fall Chinook salmon both in the United States and Canada. The research would benefit listed steelhead by helping reduce the number of them being incidentally caught during Chinook harvest. The CTWSRO would capture the fish using an 8-inch (12.7 cm) stretch-mesh gillnet placed in the lower Deschutes River (Rkm 32). Any captured MCR steelhead would be measured, assessed as to their condition, and released immediately. The CTWSRO does not intend to kill any of the fish being captured, but a small number may die as an unintended result of the activities.

Permit 1612

Washington Trout is seeking a 5-year permit to capture juvenile UCR Chinook and steelhead during the course of research designed to generate data on (1) the relationships among physical and ecological processes governing aquatic food webs; (2) juvenile salmonid habitat use, growth, and survival; and (3) population structure and dynamics among resident salmonids reintroduced to the influence of anadromy. The research would take place in Icicle Creek, Chiwaukum Creek, and the Chiwiwa River, Washington. The research would benefit fish by increasing our knowledge about the ecology of native resident and migratory salmonids in the upper Columbia basin, and thereby help managers make better decisions regarding salmonid recovery. The fish would be captured using a variety of methods: traps, nets, electrofishing and angling. Some fish would be captured, measured, and released, others would be tagged with passive integrated transponders and tissue-sampled before being released. Washington Trout does not intend to kill any of the fish being captured, but a small number may die as an unintended result of the activities.

This notice is provided pursuant to section 10(c) of the ESA. NMFS will evaluate the applications, associated documents, and comments submitted to determine whether the application meets the requirements of section 10(a) of the ESA and Federal regulations. The final permit decisions will not be made until after the end of the 30-day comment period. NMFS will publish notice of its final action in the Federal Register.

Dated: May 16, 2007.
Angela Somma,
Chief, Endangered Species Division, Office of Protected Resources, National Marine Fisheries Service.

[FR Doc. E7-9805 Filed 5-21-07; 8:45 am]

BILLING CODE 3510-22-S